DEPARTMENT OF HEALTH AND HUMAN SERVICES

Administration for Children and Families

Submission for OMB Review; Comment Request

Title: Evaluation of the Family Unification Program.

OMB No.: New Collection.

Description: The Administration for Children and Families (ACF) is proposing an information collection activity to assess the impact, through rigorous evaluation, of participation in the Family Unification Program (FUP) on child welfare involvement and child maltreatment. The Department of Housing and Urban Development (HUD) funds and administers FUP. Through the program, vouchers are provided to families for whom the lack of adequate housing is a primary factor in (a) the imminent placement of the family's child, or children, in out-of-home care or (b) the delay in the discharge of the child, or children, to the family from out-of-home-care. The program aims to prevent children's placement in out-of-home care, promote family reunification for children placed in out-of-home care, and decrease new reports of abuse and neglect. Vouchers may also be provided to youth transitioning from foster care who do not have adequate housing, although this population is not the focus of this evaluation.

The evaluation will contribute to understanding the effects of FUP on project participants' child welfare involvement. The evaluation will be conducted in approximately ten sites, with random assignment of FUP-eligible families to program and control groups. The evaluation consists of both an impact study and an implementation study. Data collection for the impact study will be exclusively through administrative data. Data collection for the implementation study will be through site visits and collection of program data. Data collection activities will span 3 years.

Implementation study data collection will occur at three points in time: (1) Prior to the implementation (“first site visit”), (2) 6-9 months into the implementation (“second site visit”, and (3) 18-21 months into implementation (“third site visit”). Semi-structured interviews will be conducted with agency/organization management (first and second site visits) and FUP management (second and third site visits), and focus groups will be conducted with front-line staff (second and third site visits). In addition, semi-structured interviews will be conducted with parents (second and third site visits). Program data, collected using a housing status form, a referral form and questionnaires about housing assistance and other services, will be completed by frontline staff. FUP management staff will complete an online randomization tool and a form (“dashboard”) to facilitate monitoring of the evaluation.

This evaluation is part of a larger project to help ACF build the evidence base in child welfare through rigorous evaluation of programs, practices, and policies. It will also contribute to HUD's understanding of how housing can serve as a platform for improving quality of life.

Respondents: Public housing authority staff, public child welfare agency staff, Continuums of Care (CoC) staff, other service provider staff, and the parent of families housed using FUP vouchers.

Annual Burden Estimates
| Total number of respondents | Annual number of respondents | Number of responses per respondent | Average burden hour per response | Annual burden hours
Guide for Recruitment with PHA and PCWA Administrators | 30 | 10 | 1 | 1.00 | 10
Guide to Develop an Evaluation Plan for PCWA FUP Management | 10 | 4 | 1 | 1.00 | 4
Guide to Develop an Evaluation Plan for PHA FUP Management | 10 | 4 | 1 | 1.00 | 4
Guide for Implementation Study for PCWA Management | 10 | 4 | 1 | 1.00 | 4
Guide for Implementation Study for PHA Management | 10 | 4 | 1 | 1.00 | 4
Guide for Implementation Study for CoC Management | 10 | 4 | 1 | 1.00 | 4
Guide for Implementation Study for Referral Provider Administrators | 14 | 5 | 1 | 1.00 | 5
Guide for Implementation Study with PCWA FUP Management (Second) | 10 | 4 | 1 | 1.00 | 4
Guide for Implementation Study for PHA FUP Management | 10 | 4 | 1 | 1.00 | 4
Guide for Implementation Study Focus Groups with PHA Frontline Workers | 30 | 10 | 1 | 1.50 | 15
Guide for Implementation Study for Parents (Second, Third) | 120 | 40 | 1 | 1.50 | 60
Guide for Implementation Study Focus Groups with Frontline Workers | 440 | 147 | 1 | 1.50 | 221
Guide for Implementation Study for PCWA FUP Management (Third) | 10 | 4 | 1 | 1.00 | 4
Guide for Implementation Study for Service Provider Management | 18 | 6 | 1 | 1.00 | 6
Housing Status Form | 616 | 206 | 31 | 0.04 | 255
Referral Form | 200 | 67 | 6 | 0.17 | 68
Randomization Tool | 10 | 4 | 106 | 0.02 | 9
Housing Assistance Questionnaire | 200 | 67 | 3 | 0.09 | 18
Ongoing Services Questionnaire | 200 | 67 | 3 | 0.09 | 18
Dashboard | 20 | 7 | 27 | 0.17 | 32
Administrative Data List | 30 | 10 | 2 | 5.00 | 100

Estimated Total Annual Burden Hours: 849.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Mary B. Jones,
ACF/OPRE Certifying Officer.

[FR Doc. 2018-14792 Filed 7-10-18; 8:45 am]

BILLING CODE 4184-25-P